DEPARTMENT OF LABOR

Bureau of Labor Statistics

Proposed Collection, Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. The Bureau of Labor Statistics (BLS) is soliciting comments concerning the proposed revision of the “National Compensation Survey.” A copy of the proposed information collection request (ICR) can be obtained by contacting the individual listed below in the Addresses section of this notice.

DATES: Written comments must be submitted to the office listed in the ADDRESSES section of this notice on or before January 17, 2012.

ADDRESSES: Send comments to Nora Kincaid, BLS Clearance Officer, Division of Management Systems, Bureau of Labor Statistics, Room 4080, 2 Massachusetts Avenue NE., Washington, DC 20212. Written comments also may be transmitted by fax to (202) 691-5111 (this is not a toll free number).

FOR FURTHER INFORMATION CONTACT: Nora Kincaid, BLS Clearance Officer, at (202) 691-7628 (this is not a toll free number). (See ADDRESSES section.)

SUPPLEMENTARY INFORMATION:

I. Background

The National Compensation Survey (NCS) is an ongoing survey of earnings and benefits among private firms, State, and local government. The NCS is currently the integration of the sampling, collection, and processing for the Employment Cost Index (ECI) and the Employee Benefits Survey (EBS) into a single, unified program of compensation statistics. This integration improves data for policymakers and researchers, reduces respondent burden, improves the utilization of BLS resources, and enhances the published measures of compensation.

Data from the integrated program include estimates of wages covering broad groups of related occupations, and data that directly link benefit plan costs with detailed plan provisions. The integrated program's single sample also produces both time-series indexes and cost levels for industry and occupational groups, thereby increasing the analytical potential of the data. Benefits of the integrated sample include: Improved measures of trends; better integration of benefit costs and plan provisions; data for narrow occupations; and broad regional and occupational coverage. The NCS employs probability methods for selection of occupations. This ensures that sampled occupations represent all occupations in the workforce, while minimizing the reporting burden on respondents. Data from the NCS are used for setting Federal white-collar salaries, determining monetary policy (as a Principal Federal Economic Indicator), and for compensation administrators and researchers in the private sector.

The survey collects data from a sample of employers. These data will consist of information about the duties, responsibilities, and compensation (earnings and benefits) for a sample of occupations for each sampled employer.

Data will be updated on a quarterly basis. The updates will allow for production of data on change in earnings and total compensation.

II. Current Action

Office of Management and Budget clearance is being sought for the National Compensation Survey.

The NCS collects earnings and work level data on occupations for the nation. The NCS also collects information on the cost, provisions, and incidence of all the major employee benefits through its benefit cost and benefit provision programs and publications.

The Administration's final approved budget for fiscal year 2011 called for an alternative to the Locality Pay Survey (LPS), which was the part of the National Compensation Survey that provides occupational wage data by industry and specific geographic areas. The alternative to the LPS uses data from two current BLS programs—the Occupational Employment Statistics (OES) survey and the ECI program. In this new approach, OES data provides wage data by occupation and by area, while ECI data are used to specify grade level effects. This new approach is also being used to extend the estimation of pay gaps to areas that were not included in the LPS and these data have been delivered to the Pay Agent.

NCS is reverting to a national survey design in order to preserve the reliability of the ECI and EBS, after the loss of the LPS sample. This also allowed the sample size of the ECI and EBS programs to be reduced by about 25 percent. Starting in Fiscal Year 2013 the new NCS private industry sample will be on a 3 year rotational cycle, which is a change from the previous 5 years rotational cycle for private industry sample members. Sample changes are reflected in the stated collection and respondent burden estimates.

The NCS data on benefit costs is used to produce the ECI and Employer Costs for Employee Compensation. The data provided will be the same, and the series will be continuous.

The NCS will continue to provide employee benefit provision and participation data. These data include estimates of how many workers receive the various employer-sponsored benefits. The data also will include information about the common provisions of benefit plans.

NCS has modified our collection forms, to 14 forms (normally having unique private industry and government initiation and update collection forms and versions.) Two forms are unique for private industry and government sample members who report data through our Secure Sockets Layer (SSL) encryption Web site. For NCS update collection, the forms give respondents their previously reported information, the dates they expected change to occur to these data, and space for reporting these changes.

A second generation version of a Web-based (Internet Data Collection Facility (IDCF)) data collection system is currently being field tested. This will allow survey respondents to easily further refine and breakout the detailed data they send NCS using this Web application.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Type of Review: Revision of a currently approved collection.

Agency: Bureau of Labor Statistics.

Title: National Compensation Survey.

OMB Number: 1220-0164.

Affected Public: Businesses or other for-profit; not-for-profit institutions; and State, local, and tribal government.

Total Respondents: 13,109 (three-year average).

Total Burden Cost (capital/startup): $0.

Total Burden Cost (operating/maintenance): $0.

All figures in the table below are based on a three-year average. The total respondents in the table are greater than the figure shown above because many respondents are asked to provide information relating to more than one form.

Form | Total respondents per form | Frequency | Total annual responses | Avg. minutes for the predominant form use * * | Total hours
Establishment collection form (NCS Form 12-1G) | * |  | * | 19 | *
Establishment collection form (NCS Form 12-1P) | 3,240 | At initiation | 3,240 | 19 | 1,026
Earnings form (NCS Form 12-2G) | * |  | * | 20 | *
Earnings form (NCS Form 12-2P) | 3,240 | At initiation | 3,240 | 20 | 1,080
Wage Shuttle form computer generated earnings update form # | 8,160 | 4 | 32,640 | 20 | 10,880
Work Level Form (NCS Form 12-3G) | * |  | * | 25 | *
Work Level Form (NCS Form 12-3P) | 3,240 | At initiation | 3,240 | 25 | 1,350
Work Schedule Form (NCS 12-4G) | * |  | * | 10 | *
Work Schedule Form (NCS 12-4P) | 3,240 | At initiation | 3,240 | 10 | 540
Benefits Collection Form (NCS 12-5G) | * |  | * | 177 | *
Benefits Collection Form (NCS 12-5P) | 3,240 | At initiation | 3,240 | 178.5 | 9,639
Summary of Benefits (Benefit update form SO-1003) is computer generated # | 8,160 | 4 | 32,640 | 19.90 | 10,826
Collection not tied to a specific form (testing, Quality Assurance/Quality Measurement, etc.) ** | 1,709 | 1.716 | 2,933 | 32.485 | 1,588
Totals | 34,229 |  | 88,413 |  | 36,929
* Most NCS Government forms (NCS 12-XG) are only used for government sample initiations, which is not currently planned during this Clearance cycle.
** Collection forms can have multiple uses. The table above shows the average collection times for the predominant uses of the forms. Record checks (for quality assurance and measurement) are done on a sub-sample of respondents verifying responses for pre-selected sections of the collection forms.
# Includes IDCF form time (Web based screen for SSL encryption Web site secure).

Comments submitted in response to this notice will be summarized and/or included in the request for Office of Management and Budget approval of the information collection request; they also will become a matter of public record.

Signed at Washington, DC, this 9th day of November 2011.
Kimberley D. Hill,
Chief, Division of Management Systems, Bureau of Labor Statistics.

[FR Doc. 2011-29534 Filed 11-15-11; 8:45 am]

BILLING CODE 4510-24-P